DEPARTMENT OF ENERGY

Federal Energy Regulatory Commission

[Docket Nos. ER04-699-000, ER03-1272-002, and ER03-1272-003]

Entergy Services, Inc.; Notice of Technical Conference

September 27, 2004.

Notice is hereby provided that the Commission will convene a technical conference, to be held on Friday, October 8, 2004 in Jackson, Mississippi. The conference will be held from 9:30 a.m. to 4 p.m. (Central Time) at the Mississippi Department of Education building, 359 N. West Street, Jackson, Mississippi. Members of the Federal Energy Regulatory Commission are expected to participate, along with Entergy's state and local utility regulators.

The purpose of the conference is to discuss Entergy's Wholesale Procurement Process (WPP) and Independent Coordinator of Transmission (ICT) proposals in Docket No. ER04-699, including issues raised at the technical conference held on July 30 and 31, 2004 in New Orleans, Louisiana. Parties may also discuss Entergy's filings, in Docket Nos. ER03-1272-002 and ER03-1272-003, in compliance with Commission orders approving the implementation of the Available Flowgate Capability (AFC) methodology to allocate transmission service.¹

¹ Entergy Services, Inc., 106 FERC ¶ 61,115 (2004) and Entergy Services Inc., 108 FERC ¶ 61,046 (2004).

The Commission will provide further information on the conference, including an agenda, in a subsequent notice. Parties will have the opportunity to file supplemental comments following the conclusion of the conference.

Transcripts of the conference will be immediately available from Ace Reporting Company (202-347-3700 or 1-800-336-6646) for a fee. They will be available for the public on the commission's e-Library (FERRIS) seven calendar days after FERC receives the transcript.

All interested persons may attend. For additional information, please contact Anna Cochrane at (202) 502-6357; anna.cochrane@ferc.gov or Sarah McKinley at (202) 502-8004; sarah.mckinley@ferc.gov.

Magalie R. Salas,
Secretary.

[FR Doc. E4-2452 Filed 9-30-04; 8:45 am]

BILLING CODE 6717-01-P